DEPARTMENT OF DEFENSE

Office of the Secretary of Defense

Membership of the Performance Review Board

AGENCY: Defense Finance and Accounting Service.

ACTION: Notice.

This notice announces the appointment of the members of the Performance Review Board (PRB) of the Defense Finance and Accounting Service. The publication of PRB membership is required by 5 U.S.C. 4314(c)(4). The Performance Review Board (PRB) provides fair and impartial review of Senior Executive Service performance appraisals and makes recommendations regarding performance ratings and performance awards to the Director, DFAS.

EFFECTIVE DATE: August 24, 2001.

FOR FURTHER INFORMATION CONTACT: Lisa Shipe, Outreach Division, Human Resources Directorate, Defense Finance and Accounting Service, Arlington, Virginia, (703) 607-3829.

SUPPLEMENTARY INFORMATION: In accordance with 5 U.S.C. 4314(c)(4), the following executives are appointed to the Defense Finance and Accounting Service PRB: Executives listed will serve a one-year renewable term, effective August 24, 2001.

List All Members of PRB

Susan J. Grant (Chairperson)

JoAnn R. Boutelle

Edward T. Grysavage

Leon J. Krushinski

Dated: August 8, 2001.
L.M. Bynum,
Alternate OSD Federal Register Liaison Officer, DoD.

[FR Doc. 01-20371 Filed 8-13-01; 8:45 am]

BILLING CODE 5001-08-M